DEPARTMENT OF AGRICULTURE

Advisory Committee on Minority Farmers Request for Nominations

AGENCY: Office of Partnerships and Public Engagement, USDA.

ACTION: Extension of time for submitting nominations.

SUMMARY: We are giving notice that U.S. Department of Agriculture (USDA) will extend the time to submit nominations and applications to serve on the Advisory Committee on Minority Farmers (the “Committee”). This will give interested persons additional time to prepare and submit applications and nomination packages which can be downloaded at the corrected link below: https://www.ocio.usda.gov/document/ad-755.

DATES: Consideration will be given to nominations received on or before November 15, 2018.

ADDRESSES: Nomination packages may be sent by postal mail or commercial delivery to: Mrs. Kenya Nicholas, Designated Federal Official, USDA OPPE, 1400 Independence Avenue SW, Room 520-A, Washington, DC 20250-0601. Nomination packages may also be faxed to (202) 720-7704.

FOR FURTHER INFORMATION CONTACT: Mrs. Kenya Nicholas, Designated Federal Official, USDA OPPE, 1400 Independence Avenue SW., Room 520-A, Washington, DC 20250-0601; Telephone (202) 720-6350; Fax (202) 720-7704; Email: kenya.nicholas@osec.usda.gov.

SUPPLEMENTARY INFORMATION: On October 17, 2018, we published in the Federal Register (FR DOC# 2018-22149, Page 52377) a Notice of Solicitation for Applications. Applications were required to be received on or before November 1, 2018. We are extending the submission period to November 15, 2018.

We are soliciting nominations from interested organizations and individuals from among ranching and farming producers (industry), related government, civil rights, State, and Tribal agricultural agencies, academic institutions, commercial banking entities, trade associations, and related nonprofit enterprises. An organization may nominate individuals from within or outside its membership; alternatively, an individual may nominate herself or himself. Nomination packages should include a nomination form along with a cover letter or resume that documents the nominee's background and experience. Nomination forms are available on the internet at https://www.ocio.usda.gov/document/ad-755 or may be obtained from Mrs. Kenya Nicholas at the email address or telephone number noted above.

The Secretary will fill up to 15 vacancies from among those organizations and individuals solicited in order to obtain the broadest possible representation on the Committee. Equal opportunity practices, in line with the USDA policies, will be followed in all appointments to the Committee. To ensure that the recommendations of the Committee have taken into account the needs of the diverse groups served by the Department, membership should include, to the extent practicable, individuals with demonstrated ability to represent minorities, women, and persons with disabilities.

Signed in Washington, DC, this 25th day of October 2018.
Christian Obineme,
Associate Director, Office of Partnerships and Public Engagement.

[FR Doc. 2018-24208 Filed 11-5-18; 8:45 am]

BILLING CODE P